DEPARTMENT OF HEALTH AND HUMAN SERVICES

Centers for Medicare & Medicaid Services

[CMS-1363-N]

Medicare Program; May 17, 2004, Meeting of the Practicing Physicians Advisory Council

AGENCY: Centers for Medicare & Medicaid Services (CMS), HHS.

ACTION: Notice.

SUMMARY: In accordance with section 10(a) of the Federal Advisory Committee Act, this notice announces a meeting of the Practicing Physicians Advisory Council (the Council). The Council will be meeting to discuss certain proposed changes in regulations and carrier manual instructions related to physicians' services, as identified by the Secretary of the Department of Health and Human Services (the Secretary). This meeting is open to the public.

DATES: The meeting is scheduled for May 17, 2004, from 8:30 a.m. until 5 p.m. e.s.t.

ADDRESSES: The meeting will be held in Room 705A, 7th floor, at the Hubert H. Humphrey Building, 200 Independence Avenue, SW., Washington, DC 20201.

Meeting Registration: Persons wishing to attend this meeting must contact John Lanigan, Council Coordinator, by e-mail at Jlanigan@cms.hhs.gov or by telephone at (410) 786-2312, at least 72 hours in advance to register. Persons not registered in advance will not be permitted into the Humphrey Building and will not be permitted to attend the meeting. Persons attending the meeting will be required to show a photographic identification, preferably a valid driver's license, before entering the building.

FOR FURTHER INFORMATION CONTACT: Kenneth Simon, M.D., Executive Director, Practicing Physicians Advisory Council, 7500 Security Blvd., Mail Stop C4-11-27, Baltimore, MD 21244-1850, telephone (410) 786-2312, or e-mail Ksimon@cms.hhs.gov. News media representatives must contact the CMS Press Office, (202) 690-6145. Please refer to the CMS Advisory Committees Information Line (1-877-449-5659 toll free)/(410-786-9379 local) or the Internet at http://www.cms.hhs.gov/faca/ppac/default.asp for additional information and updates on committee activities.

SUPPLEMENTARY INFORMATION: The Secretary of the Department of Health and Human Services (the Secretary) is mandated by section 1868 of the Social Security Act (the Act) to appoint a Practicing Physicians Advisory Council (the Council) based on nominations submitted by medical organizations representing physicians. The Council meets quarterly to discuss certain proposed changes in regulations and carrier manual instructions related to physicians' services, as identified by the Secretary. To the extent feasible and consistent with statutory deadlines, the consultation must occur before publication of the proposed changes. The Council submits an annual report on its recommendations to the Secretary and the Administrator of the Centers for Medicare & Medicaid Services not later than December 31 of each year.

The Council consists of 15 physicians, each of whom must have submitted at least 250 claims for physicians' services under Medicare in the previous year. Members of the Council include both participating and nonparticipating physicians, and physicians practicing in rural and underserved urban areas. At least 11 members of the Council must be physicians as described in section 1861(r)(1) of the Act; that is, State-licensed doctors of medicine or osteopathy. The remaining 4 members may include dentists, podiatrists, optometrists and chiropractors. Members serve for overlapping 4-year terms; terms of more than 2 years are contingent upon the renewal of the Council by appropriate action prior to its termination. Section 1868(a) of the Act provides that nominations to the Secretary for Council membership must be made by medical organizations representing physicians.

The Council held its first meeting on May 11, 1992. The current members are: James Bergeron, M.D.; Ronald Castellanos, M.D.; Rebecca Gaughan, M.D.; Carlos R. Hamilton, M.D.; Dennis K. Iglar, M.D.; Joe Johnson, D.C.; Christopher Leggett, M.D.; Barbara McAneny, M.D.; Laura B. Powers, M.D.; Michael T. Rapp, M.D.; Robert L. Urata, M.D. Four new Council members will be sworn-in on May 17, 2004. The new nominees to be sworn-in are Jose Azocar, M.D.; Peter Grimm, D.O.; Geraldine O'Shea, D.O.; and Anthony Senagore, M.D.

The meeting will commence with a status report and discussion on prior meeting recommendations. Additionally, updates will be provided on the Health Insurance Portability and Accountability Act, Physicians Regulatory Issues Team, and Competitive Bidding. Council updates will be followed by discussion and comment on the following agenda topics:

• Enrollment and PECOS.

• Medical Care for Undocumented Aliens.

• SNF Consolidated Billing.

• Medicare Graduate Medical Education Payment.

For additional information and clarification on these topics, contact the Executive Director, listed under the FOR FURTHER INFORMATION CONTACT section of this notice. Individual physicians or medical organizations that represent physicians wishing to make a 5-minute oral presentation on agenda issues must contact the Executive Director by 12 noon, May 7, 2004, to be scheduled. Testimony is limited to agenda topics only. The number of oral presentations may be limited by the time available. A written copy of the presenter's oral remarks must be submitted to John Lanigan, Council Coordinator, no later than 12 noon, May 7, 2004, for distribution to Council members for review prior to the meeting. Physicians and medical organizations not scheduled to speak may also submit written comments to the Administrative Officer for distribution. The meeting is open to the public, but attendance is limited to the space available.

Special Accommodations: Individuals requiring sign language interpretation or other special accommodation must contact John Lanigan by e-mail at Jlanigan@cms.hhs.gov or by telephone at (410) 786-2312 at least 10 days before the meeting.

Authority: (Section 1868 of the Social Security Act (42 U.S.C. 1395ee) and section 10(a) of Pub. L. 92-463 (5 U.S.C. App. 2, section 10(a).)

(Catalog of Federal Domestic Assistance Program No. 93.773, Medicare—Hospital Insurance; and Program No. 93.774, Medicare—Supplementary Medical Insurance Program.)
Dated: April 9, 2004.
Mark B. McClellan,
Administrator, Centers for Medicare & Medicaid Services.

[FR Doc. 04-8831 Filed 4-22-04; 8:45 am]

BILLING CODE 4120-01-P